DEPARTMENT OF HEALTH AND HUMAN SERVICES

Centers for Disease Control and Prevention

[30Day-13-0822]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC or by fax to (202) 395-5806. Written comments should be received within 30 days of this notice.

Proposed Project

National Intimate Partner and Sexual Violence Survey (OMB No. 0920-0822, exp. 11/30/2013)—Revision—National Center for Injury Prevention and Control (NCIPC), Centers for Disease Control and Prevention (CDC).

Background and Brief Description

The health burden of Intimate Partner Violence (IPV), Sexual Violence (SV) and stalking are substantial. To address this important public health problem, in 2010, CDC implemented the National Intimate Partner and Sexual Violence Survey (NISVS) which produces national and state level estimates of Intimate Partner Violence (IPV), Sexual Violence (SV) and stalking on an annual basis.

The National Intimate Partner and Sexual Violence Survey (NISVS) is an ongoing, nationally representative survey that assesses experiences of intimate partner violence, sexual violence and stalking among adult women and men in the United States. It measures lifetime victimization for these types of violence as well as victimization in the 12 months prior to taking the survey.

CDC proposes an additional 3 years of data collection for this revision request, which is currently approved under OMB# 0920-0822—expiration date: 11/30/2013. The proposed revision to the National Intimate Partner and Sexual Violence Survey (NISVS) involves testing a newly revised data collection instrument during the calendar year of 2013. The changes to the instrument are twofold: first, the current NISVS survey instrument has been shortened in efforts to decrease the burden on respondents and to develop a core instrument that will be administered on an annual basis. Second, topic specific modules contain questions to produce data that are needed on a regular basis but are not needed annually. The overarching purpose of the information collected has not changed.

A total of 44,896 eligible households will be screened annually; out of the households screened, approximately 35,696 will not consent or agree to participate and 9,200 will complete the survey each year. The survey will be conducted among English and/or Spanish speaking male and female adults (18 years and older) living in the United States.

There are no costs to respondents other than their time. The total estimated annual burden hours are 6,078.

Estimated Annualized Burden Hours
Type of respondent | Form name | Number of responses | Number of responses per respondent | Average burden per response (in hours)
Households | Screened | 44,896 | 1 | 3/60
| Surveyed | 9,200 | 1 | 25/60

Ron A. Otten,
Director, Office of Scientific Integrity, Office of the Associate Director for Science, Office of the Director, Centers for Disease Control and Prevention.

[FR Doc. 2013-10424 Filed 5-2-13; 8:45 am]

BILLING CODE 4163-18-P